DEPARTMENT OF AGRICULTURE

Agricultural Marketing Service

[Doc. No. AMS-FGIS-25-0254]

Designation Opportunities for United States Grain Standards Act

AGENCY: Agricultural Marketing Service, USDA.

ACTION: Notice; request for comments.

SUMMARY: The United States Grain Standards Act (USGSA) designations for seven official agencies, Champaign-Danville Grain Inspection Departments, Inc. (Champaign-Danville Grain Inspection), Eastern Iowa Grain Inspection and Weighing Service, Inc. (Eastern Iowa Grain Inspection), Enid Grain Inspection Company, Inc. (Enid Grain Inspection), Fremont Grain Inspection Department, Inc. (Fremont Grain Inspection), Louisiana Department of Agriculture and Forestry, Maryland Department of Agriculture, Omaha Grain Inspection Service, Inc. (Omaha Grain Inspection), will end on the dates listed in the SUPPLEMENTARY INFORMATION section below. The Agricultural Marketing Service (AMS) is requesting designation applications from private entities or state governmental agencies that would like to provide official inspection and weighing services for the areas presently served by these seven agencies. In addition to this request for applications, AMS seeks comments on the quality of services provided by the official agencies mentioned above.

DATES: Applications and comments must be received between September 1, 2025, and September 30, 2025.

ADDRESSES: Submit applications and comments concerning this Notice using the following methods:

To apply for USGSA designation: New applicants (not currently designated) seeking designation, currently designated applicants seeking to apply for designation in a new geographic area, or designated applicants intending to re-apply for their existing designated geographic area can find detailed instructions at https://www.ams.usda.gov/sites/default/files/media/FGISApplyingforDesignation_NewApplicants.pdf. Applicants must have a Login.gov account, a MyFGIS number, and access to FGISonline Delegations/Designations and Export Registrations (DDR) prior to applying. Applicants are encouraged to begin the application process early to allow time for system authentication.

To submit comments regarding currently designated official agencies: Go to regulations.gov (https://www.regulations.gov). Instructions for submitting and reading comments are detailed on the website. All comments must be submitted through the Federal e-rulemaking portal at https://www.regulations.gov and reference the document number and the date and page number of this issue of the Federal Register. All comments submitted in response to this notice will be included in the record and will be made available to the public. Please be advised that the identity of the individuals or entities submitting comments will be made public on the internet at the address provided above.

To view the applications submitted, please contact FGISQACD@usda.gov. All comments will be available for public viewing online at https://www.regulations.gov.

FOR FURTHER INFORMATION CONTACT: Candace Hildreth, Quality Assurance and Compliance Division, telephone 202-720-0203; email: Candace.A.Hildreth@usda.gov or FGISQACD@usda.gov.

SUPPLEMENTARY INFORMATION: The designations of the official agencies listed below will end on the prescribed dates:

Official agency | Headquarters location and telephone | Designation end | Applications/comments open period
Champaign-Danville Grain Inspection Departments, Inc | Urbana, IL, 217-344-9306 | 3/31/2026 | 09/01/2025-09/30/2025
Eastern Iowa Grain Inspection and Weighing Service, Inc | Davenport, IA, 815-761-9468 | 3/31/2026 | 09/01/2025-09/30/2025
Enid Grain Inspection Company, Inc | Enid, OK, 580-233-1121 | 3/31/2026 | 09/01/2025-09/30/2025
Fremont Grain Inspection Department, Inc | Fremont, NE, 402-721-1270 | 6/30/2026 | 09/01/2025-09/30/2025
Louisiana Department of Agriculture and Forestry | Baton Rouge, LA, 318-339-7642 | 9/30/2026 | 09/01/2025-09/30/2025
Maryland Department of Agriculture | Annapolis, MD, 410-841-5769 | 6/30/2026 | 09/01/2025-09/30/2025
Omaha Grain Inspection Service, Inc | Council Bluffs, IA, 712-256-2590 | 3/31/2026 | 09/01/2025-09/30/2025

Sec. 7(f) of the United States Grain Standards Act (USGSA) authorizes the Secretary to designate a qualified applicant to provide official services in a specified area after determining the applicant is better able than any other applicant to provide such official services (7 U.S.C. 79(f)). A designated agency may provide official inspection service and/or Class X or Class Y weighing services at locations other than export port locations. Under sec. 7(g) of the USGSA, designations of official agencies may be awarded for no longer than five years, unless terminated by the Secretary, and may be renewed according to the criteria and procedures prescribed in sec. 7(f) of the USGSA. See also 7 CFR 800.196 for further information and guidance. The following areas are open for designation.

Areas Open for Designation

Area 11

Pursuant to section 79(f)(2) of the United States Grain Standards Act, the following geographic area, in the States of Illinois, Indiana, and Michigan.

Description: In Illinois (central section): Cass, Christian (the area west of CR22, south of CR 2600 N, west of CR 1500 E, south of CR 2500 N, west of N 1600 East Rd., south of E 2100 North Rd., west of IL-48 and N 1600 East Rd., north of CR 900 N, west of CR 1250 E/N 1250 East Rd., north of E 300 North Rd., and west of CR 1100 E), Greene, Logan (the area south of IL-10, west of 2000th Ave., north of CR 1500N, west of 1800th Ave., north of CR 1400 N, west of 1600th Ave., north of CR 1200 N, west of CR 1325 E, north of CR 1100 N, west of 1175th Ave., north of 950th St./CR 12, west of CR 937 E, south of 825th St., west of CR 950 E, north of CR 10/700th St., northwest of N Gillett St, and west of CR 600 E; and the area south and west of CR 11), Macoupin, Menard, Montgomery (west of CR 6, north of IL-16), Morgan, Pike (south and east of US-54 and IL-107, south of IL-104) Sangamon (the area west of Burrus Rd., south of McLaughlin Rd., west of Buffalo Hart Rd., south of Sherman Rd./CR 6½, west of Cornland Rd., south of Old Rte. 36, west of Lanesville Rd./CR 34, south of Mechanicsburg Illiopolis Rd./CR 33, west of CR 20¼ E/Mt. Auburn Rd./CR 57), Schuyler, and Scott Counties.

In Illinois (eastern section): Champaign, Clark, Coles, Crawford (north and east of IL-33), Douglas, Edgar, Ford, Iroquois, Kankakee (east of US-57 and US-45/US-52), Lawrence (east of IL-33 and north of US-50), Livingston (west of CR 10, south of IL-116, and west of IL-47), McLean (east of CR 13 north of IL-165, east of CR-15 between IL-165 and US-136), and east of CR 11 south of US-136), Piatt (north of US-72), Vermillion, and Will (east of US-57) Counties.

In Indiana: Benton, Clay, Elkhart, Fountain (west of US-41), Greene, Jasper, Lake, LaPorte, Marshall, Newton, Owen, Parke, Porter, Pulaski, Putnam, St. Joseph, Starke, Sullivan, Vigo, Warren, and White Counties.

In Michigan: Berrien, Cass, and St. Joseph Counties.

Area 15

Pursuant to section 79(f)(2) of the United States Grain Standards Act, the following geographic area, in the States of Illinois, Iowa, and Wisconsin.

Description: In Illinois: Northern Area: Boone, Cook, DeKalb, DuPage, Jo Daviess, Kane, Kendall, Lake, Lee, McHenry, Ogle, Stephenson, and Winnebago Counties. Midwestern Area: Bureau (west of IL-40), Henderson, Henry, Knox, Mercer Rock Island, and Warren Counties.

In Iowa: Northern Area: Delaware and Dubuque Counties. Southern Area: Cedar (south of I-80, east of IA-38, and south of IA-130), Des Moines, Henry, Iowa (south of I-80), Jefferson, Johnson (south of I-80), Keokuk, Louisa, Muscatine, Scott, Wapello, and Washington Counties.

In Wisconsin: The entire state of Wisconsin.

Area 37

Pursuant to section 79(f)(2) of the United States Grain Standards Act, the following geographic area, in the States of Oklahoma and Texas.

Description: In Oklahoma: Adair, Alfalfa, Atoka, Beckham, Blaine, Bryan, Caddo, Canadian, Carter, Cherokee, Choctaw, Cleveland, Coal, Comanche, Cotton, Craig, Creek, Custer, Delaware, Dewey, Ellis, Garfield, Garvin, Grady, Grant, Greer, Harmon, Harper, Haskell, Hughes, Jackson, Jefferson, Johnston, Kay, Kingfisher, Kiowa, Latimer, Le Flore, Lincoln, Logan, Love, McClain, McCurtain, McIntosh, Major, Marshall, Mayes, Murray, Muskogee, Noble, Nowata, Okfuskee, Oklahoma, Okmulgee, Osage, Ottawa, Pawnee, Payne, Pittsburg, Pontotoc, Pottawatomie, Pushmataha, Roger Mills, Rogers, Seminole, Sequoyah, Stephens, Tillman, Tulsa, Wagoner, Washington, Washita, Woods, and Woodward Counties.

In Texas: Clay, Wichita, and Wilbarger Counties.

Area 21

Pursuant to section 79(f)(2) of the United States Grain Standards Act, the following geographic area, in the States of Iowa and Nebraska.

Description: In Iowa: Carroll (west of US-71), Crawford, Harrison (east of IA-183 to IA 127 to Loess Hills Trail), and Shelby Counties.

In Nebraska: Burt, Butler, Colfax, Cuming, Dodge, Madison (east of US-81), Pierce (east of US-81 and south of US-20), Platte, Polk, Saunders (west of US-77), Stanton, Washington (north of State Route 91), and Wayne Counties.

Exclusions: The following grain elevators, which are located within the Fremont, Nebraska, geographic area, have been excluded from Area 21: Huskers Cooperative Grain Company in the city of Columbus, Nebraska in Platte County, Nebraska; Omaha Grain Inspection Service, Inc.: Central Valley Ag in the city of Rising City, Nebraska, in Butler County, Nebraska, and Central Valley Ag in the city of Shelby, Nebraska, in Polk County, Nebraska.

Area 24

Pursuant to section 79(f)(2) of the United States Grain Standards Act, the following geographic area, in the State of Louisiana.

Description: In Louisiana: The entire state of Louisiana.

Area 25

Pursuant to section 79(f)(2) of the United States Grain Standards Act, the following geographic area, in the State of Maryland.

Description: In Maryland: The entire state of Maryland.

Area 23

Pursuant to section 79(f)(2) of the United States Grain Standards Act, the following geographic area, in the States of Iowa and Nebraska.

Description: In Iowa: Harrison (west of IA-183), Mills (east of I-29 and north of US-34), Monona (south of IA-175 and IA-37), Montgomery (west of CR 47 and IA-48), and Pottawattamie Counties.

In Nebraska: Douglas, Sarpy, Saunders (east of US-77), and Washington (south of NE-91 and US-30) Counties.

Exclusions: The following grain elevators, which are located within the Council Bluffs, Iowa, geographic area, have been excluded from Area 23: Farmers Union Cooperative Association and Krumel Grain and Storage in the city of Wahoo, Nebraska, in Saunders County, Nebraska.

Opportunity for Designation

Interested persons or governmental agencies may apply for designation to provide official services in the geographic areas specified above under the provisions of section 79(f) of the USGSA and 7 CFR 800.196. To apply for designation or for more information, contact Candace Hildreth at the address listed above or visit the AMS website at https://www.ams.usda.gov/sites/default/files/media/FGISApplyingforDesignation.pdf.

Request for Comments

We are publishing this Notice to provide interested persons the opportunity to comment on the quality of services provided by Champaign-Danville Grain Inspection, Eastern Iowa Grain Inspection, Enid Grain Inspection, Fremont Grain Inspection, Louisiana Department of Agriculture and Forestry, Maryland Department of Agriculture, and Omaha Grain Inspection Service. In the designation process, we are particularly interested in receiving comments citing reasons and pertinent data supporting or objecting to the designation of the applicants. Submit all comments to Candace Hildreth at the above address or at https://www.regulations.gov.

We consider applications, comments, and other available information when determining which applicants will be designated.

Erin Morris,
Administrator, Agricultural Marketing Service.

[FR Doc. 2025-15828 Filed 8-19-25; 8:45 am]

BILLING CODE 3410-02-P